DEPARTMENT OF AGRICULTURE

Forest Service

36 CFR Part 228

RIN 0596-AC20

DEPARTMENT OF THE INTERIOR

Bureau of Land Management

43 CFR Part 3160

[W0-610-411H12-24 1A]

RIN 1004-AD59

Onshore Oil and Gas Operations; Federal and Indian Oil and Gas Leases; Onshore Oil and Gas Order Number 1, Approval of Operations

AGENCIES: U.S. Forest Service, Agriculture; Bureau of Land Management, Interior.

ACTION: Proposed rule; Notice of extension of public comment period.

SUMMARY: The Bureau of Land Management (BLM) and the U.S. Forest Service (FS) are extending by 60 days the public comment period for the proposed rule published in the Federal Register on July 27, 2005 (70 FR 43349). The proposed rule would revise existing Onshore Oil and Gas Order Number 1 (see 48 FR 48916 as amended at 48 FR 56226 (1983)). The Order provides the requirements necessary for the approval of all proposed oil and gas exploratory, development, or service wells on all Federal and Indian (except Osage Tribe) onshore oil and gas leases, including leases where the surface is managed by the FS. It also covers approvals necessary for subsequent well operations, including abandonment. In response to public requests for additional time and because the recently enacted Energy Policy Act of 2005 impacts certain provisions of the proposed rule, the BLM and the FS are extending the comment period 60 days from the original comment period closing date of August 26, 2005. The comment period is extended to October 25, 2005, to give the public additional time to comment.

DATES: Send your comments to the BLM on or before October 25, 2005. The BLM and the FS may not necessarily consider or include in the Administrative Record for the final rule comments that we receive after the close of the comment period or comments delivered to an address other than those listed below (see ADDRESSES).

ADDRESSES: Mail: Director (630), Bureau of Land Management, Eastern States Office, 7450 Boston Boulevard, Springfield, Virginia 22153. Hand Delivery: 1620 L Street, NW., Suite 401, Washington, DC 20036. E-mail: comments_washington@blm.gov. Federal eRulemaking Portal: http://www.regulations.gov.

FOR FURTHER INFORMATION CONTACT: James Burd at (202) 452-5017 or Ian Senio at (202) 452-5049 at the BLM or Barry Burkhardt at (801) 625-5157 at the FS. Persons who use a telecommunications device for the deaf (TDD) may contact these persons through the Federal Information Relay Service (FIRS) at 1-800-877-8339, 24 hours a day, 7 days a week.

SUPPLEMENTARY INFORMATION: The BLM and the FS published the proposed rule on July 27, 2005 (70 FR 43349), and provided a 30 day comment period that will end on August 26, 2005. We are extending the comment period on the proposed rule until October 25, 2005. The comment period is being extended as a result of requests for extension from the public, but also because the recently enacted Energy Policy Act of 2005 (Act) impacts certain provisions of the proposed rule having to do with timing of the Application for Permit to Drill or Deepen package (APD) approvals. To make the proposed rule consistent with the provisions in that Act, the BLM intends to publish a further proposed rule in the Federal Register in the near future amending provisions associated with the timing of APD approvals.

Dated: August 22, 2005.
Dale N. Bosworth,
Chief, USDA—Forest Service.
Dated: August 19, 2005.
Rebecca W. Watson,
Assistant Secretary of the Interior.

[FR Doc. 05-17051 Filed 8-25-05; 8:45 am]

BILLING CODE 4310-84-P